DEPARTMENT OF AGRICULTURE

Grain Inspection, Packers and Stockyards Administration

Proposed Posting and Posting of Stockyards

AGENCY: Grain Inspection, Packers and Stockyards Administration, USDA.

ACTION: Notice and request for comments.

SUMMARY: The Grain Inspection, Packers and Stockyards Administration (GIPSA) is taking several actions to post and depost stockyards under the Packers and Stockyards Act (P&S Act). Specifically, we are proposing that sixteen stockyards now operating subject to the P&S Act be posted. We are also posting eight stockyards that were identified previously as operating subject to the P&S Act.

DATE: For the proposed posting of stockyards, we will consider comments that we receive by January 30, 2013.

ADDRESSES: We invite you to submit comments on this notice. You may submit comments by any of the following methods:

• Internet: Go to http://www.regulations.gov. Follow the online instructions for submitting comments.

• Mail, hand deliver, or courier to Dexter Thomas, GIPSA, USDA, 1400 Independence Avenue SW., Room 2530-S, Washington, DC 20250-3604.

• Fax to (202) 690-2173.

Instructions: All comments should refer to the date and page number of this issue of the Federal Register. The comments and other documents relating to this action will be available for public inspection during regular business hours.

FOR FURTHER INFORMATION CONTACT: Catherine M. Grasso, Program Analyst, Policy and Litigation Division at (202) 720-7363 or catherine.m.grasso@usda.gov.

SUPPLEMENTARY INFORMATION: The Grain Inspection, Packers and Stockyards Administration (GIPSA) administers and enforces the P&S Act of 1921, (7 U.S.C. 181 et seq.). The P&S Act prohibits unfair, deceptive, and fraudulent practices by livestock market agencies, dealers, stockyard owners, meat packers, swine contractors, and live poultry dealers in the livestock, poultry, and meatpacking industries.

Section 302 of the P&S Act (7 U.S.C. 202) defines the term “stockyard” as follows:

“* * * any place, establishment, or facility commonly known as stockyards, conducted, operated, or managed for profit or nonprofit as a public market for livestock producers, feeders, market agencies, and buyers, consisting of pens, or other enclosures, and their appurtenances, in which live cattle, sheep, swine, horses, mules, or goats are received, held, or kept for sale or shipment in commerce.”

Section 302 (b) of the P&S Act requires the Secretary of Agriculture to determine which stockyards meet this definition, and to notify the owner of the stockyard and the public of that determination by posting a notice in each designated stockyard. Once the Secretary provides notice to the stockyard owner and the public, the stockyard is subject to the provisions of Title III of the P&S Act (7 U.S.C. 201-203 and 205-217a) until the Secretary deposts the stockyard by public notice. To post a stockyard, we assign the stockyard a facility number, notify the stockyard owner, and send an official posting notice to the stockyard owner to display in a public area of the stockyard. This process is referred to as “posting.” The date of posting is the date that the posting notices are physically displayed at the stockyard. A facility that does not meet the definition of a stockyard is not subject to the P&S Act, and therefore cannot be posted. A posted stockyard can be deposted, which occurs when the facility is no longer used as a stockyard.

We are hereby notifying stockyard owners and the public that the following sixteen stockyards meet the definition of a stockyard, and that we propose to designate these stockyards as posted stockyards.

Proposed facility No. | Stockyard name and location
GA-233 | Middle Georgia Goat & Chicken Auction, Cochran, Georgia.
GA-234 | Bent Staple Auctions, LLC., Ocilla, Georgia.
GA-235 | Dooly County Livestock, LLC., Unadilla, Georgia.
IN-170 | Tri-State Livestock Auction, LLC., Angola, Indiana.
MS-177 | Clark's Livestock, Forest, Mississippi.
MT-124 | Headwaters Livestock Auction, Three Forks, Montana.
NY-178 | Don Yahn Market, Cherry Creek, New York.
NY-179 | HillTop Auction Company, Penn Yan, New York.
OK-217 | Cross Livestock Auction, LLC, Checotah, Oklahoma.
SC-164 | H & S Stockyards, Ehrhardt, South Carolina.
TN-204 | Heritage Horse Sales, LLC., Shelbyville, Tennessee.
TN-205 | Bill Roark dba Roan Valley Auction Company and Livestock Market, Mountain City, Tennessee.
TN-206 | The Sale of Champions, Shelbyville, Tennessee.
TN-207 | Southern Saddlebred Sales, Inc., Murfreesboro, Tennessee.
TX-355 | Sulphur Springs Horse Sales, Sulphur Springs, Texas.
TX-357 | High Plains Livestock LLC., Hereford, Texas

We are also notifying the public that the stockyards listed in the following table meet the P& S Act's definition of a stockyard and that we have posted the stockyards. On January 26, 2010, we published a notice in the Federal Register (75 FR 4039-4040) of our proposal to post these eight stockyards. Since we received no comments to our proposal, we assigned the stockyards a facility number and notified the owner of the stockyard facilities. Posting notices were sent to the owner of the stockyard to display in public areas of the stockyard.

The table below reflects the date of posting for each stockyard.

Facility No. | Stockyard name and location | Date of posting
AZ-117 | Robertson Horse Sales, Benson, Arizona | April 28, 2010.
CA-193 | Westside Auction Yard, Newman, California | May 3, 2010.
IA-263 | Clarke's Auctioneering, Chariton, Iowa | May 6, 2010.
KY-185 | Bluegrass Sales Stables, LLC, Elkton, Kentucky | April 30, 2010.
ME-106 | Clark's Auction Company, Skowhegan, Maine | May 4, 2010.
OK-216 | Alva Livestock Market, Alva Oklahoma | May 6, 2010.
TX-356 | Corsicana Livestock Auction, Inc., Corsicana, Texas | April 30, 2010.
WI-151 | Turenne Livestock Market, Thorpe, Wisconsin | April 29, 2010.

Authority: 7 U.S.C. 202.

Larry Mitchell,
Administrator, Grain Inspection, Packers and Stockyards Administration.

[FR Doc. 2013-00689 Filed 1-14-13; 8:45 am]

BILLING CODE 3410-KD-P